DEPARTMENT OF DEFENSE

GENERAL SERVICES ADMINISTRATION

NATIONAL AERONAUTICS AND SPACE ADMINISTRATION

48 CFR Parts 2, 4, and 52

[FAR Case 2005-007]

RIN 9000-AK33

Federal Acquisition Regulation; Central Contractor Registration - Taxpayer Identification Number (TIN) Validation

AGENCIES: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to include the process of validating a Central Contractor Registration (CCR) registrant's taxpayer identification number (TIN) with the Internal Revenue Service (IRS) to improve data accuracy in the Federal procurement system. Additionally, the proposed amendment removes outdated language requiring modifications of contracts prior to December 31, 2003, regarding CCR.

DATES: Interested parties should submit written comments to the FAR Secretariat on or before December 19, 2005 to be considered in the formulation of a final rule.

ADDRESSES: Submit comments identified by FAR case 2005-007 by any of the following methods:

• Federal eRulemaking Portal: http://www.regulations.gov. Follow the instructions for submitting comments.

• Agency Web Site: http://www.acqnet.gov/far/ProposedRules/proposed.htm. Click on the FAR case number to submit comments.

• E-mail: farcase.2005-007@gsa.gov. Include FAR case 2005-007 in the subject line of the message.

• Fax: 202-501-4067.

• Mail: General Services Administration, Regulatory Secretariat (VIR), 1800 F Street, NW, Room 4035, ATTN: Laurieann Duarte, Washington, DC 20405.

Instructions: Please submit comments only and cite FAR case 2005-007 in all correspondence related to this case. All comments received will be posted without change to http://www.acqnet.gov/far/ProposedRules/proposed.htm, including any personal and/or business confidential information provided.

FOR FURTHER INFORMATION CONTACT: The FAR Secretariat at (202) 501-4755 for information pertaining to status or publication schedules. For clarification of content, contact Mr. Michael O. Jackson, Procurement Analyst, at (202) 208-4949. Please cite FAR case 2005-007.

SUPPLEMENTARY INFORMATION:

A. Background

Vendor registration in the CCR as a pre-requisite for being awarded a contract has been required in the Department of Defense since 1998, for Civilian Agencies since 2003. Since CCR's inception, validation of registrants' TINs with the IRS has been contemplated in order to improve data accuracy throughout the Federal procurement system. This capability, although actively pursued, was never implemented as the Internal Revenue Code (I.R.C.) restricts disclosure of TINs without the taxpayer's consent, which due to technology at the time, would have been costly and inefficient to pursue. However, in its Fall 2004 “Report to Senate Committee on Governmental Affairs Permanent Subcommittee on Investigations,” the Federal Contractor Tax Compliance Task Force (which included the Office of Management and Budget, the Department of Treasury, the Department of Defense, the General Services Administration, the Department of Justice, and the IRS) recommended that “ . . . a consent-based TIN validation under I.R.C. § 6103 should be instituted.” The capability for a near real-time/real-time, web-based solution integrating the CCR with an IRS validation is now able to be pursued due to advancements in technology. The FAR was recommended to be updated to specifically identify the validation of the TINs as a part of CCR registration.

Additionally, Subpart 4.11, Central Contractor Registration, contains language that was included when this subpart was implemented in the FAR in 2003. This outdated language required modifications of contracts by December 31, 2003, to include CCR registration requirements. As this date is past, the case removes the associated language.

The rule is proposing to amend the FAR by—

1. Modifying FAR 2.101 to indicate that the validation requirement for “registered in CCR” includes TIN matching.

2. Removing FAR 4.1103(a)(3)(i) thru 4.1103(a)(3)(ii) and a part of 4.1104 to remove the language requiring action by December 31, 2003.

3. Adding detail to the FAR clause at 52.204-7, Central Contractor Registration, to specifically identify validation of the TIN as a part of the definition “Registered in the CCR Database,” and to indicate that consent is part of that process.

4. Removing Alternate I to FAR clause 52.204-7, Central Contractor Registration.

This is not a significant regulatory action and, therefore, was not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., as no new requirements are being placed on the vendor community. An Initial Regulatory Flexibility Analysis has, therefore, not been performed. We invite comments from small businesses and other interested parties. The Councils will consider comments from small entities concerning the affected FAR Parts 2, 4, and 52 in accordance with 5 U.S.C. 610. Interested parties must submit such comments separately and should cite 5 U.S.C. 601, et seq. (FAR case 2005-007), in correspondence.

C. Paperwork Reduction Act

The Paperwork Reduction Act does not apply because the proposed changes to the FAR do not impose information collection requirements that require the approval of the Office of Management and Budget under 44 U.S.C. 3501, et seq.

List of Subjects in 48 CFR Parts 2, 4, and 52

Government procurement.

Dated: October 12, 2005.
Gerald Zaffos,
Director, Contract Policy Division.

Therefore, DoD, GSA, and NASA propose amending 48 CFR parts 2, 4, and 52 as set forth below:

1. The authority citation for 48 CFR parts 2, 4, and 52 continues to read as follows:

Authority: 40 U.S.C. 121(c); 10 U.S.C. chapter 137; and 42 U.S.C. 2473(c).

PART 2—DEFINITIONS OF WORDS AND TERMS

2. Amend section 2.101 by revising paragraph (2) of the definition “Registered in the CCR database” to read as follows:

2.101 Definitions.

* * * * *

Registered in the CCR database * * *

* * * * *

(2) The Government has validated all mandatory data fields, to include validation of the Taxpayer Identification Number (TIN) with the Internal Revenue Service (IRS), and has marked the record “Active”. The contractor will be required to provide consent for TIN validation to the Government as a part of the CCR registration process.

* * * * *

PART 4—ADMINISTRATIVE MATTERS

4.1103 [Amended]

3. Amend section 4.1103 by removing paragraph (a)(3) and redesignating paragraphs (b), (c), (d), and (e) as (a)(3), (b), (c) and (d), respectively.

4.1104 [Amended]

4. Amend section 4.1104 by removing the last sentence.

PART 52—SOLICITATION PROVISIONS AND CONTRACT CLAUSES

5. Amend section 52.204-7 by revising the date of the clause; in paragraph (a) by revising paragraph (2) of the definition “Registered in the CCR database”; and by removing Alternate I. The revised text reads as follows:

52.204-7 Central Contractor Registration.

* * * * *

Central Contractor Registration (DATE)

(a) * * *

* * * * *

Registered in the CCR database * * *

* * * * *

(2) The Government has validated all mandatory data fields, to include validation of the Taxpayer Identification Number (TIN) with the Internal Revenue Service (IRS), and has marked the record “Active”. The Contractor will be required to provide consent for TIN validation to the Government as a part of the CCR registration process.

[FR Doc. 05-20869 Filed 10-18-05; 8:45 am]

BILLING CODE 6820-EP-S